DEPARTMENT OF TRANSPORTATION

Federal Aviation Administration

14 CFR Part 21

[Docket No. FAA-2022-1135]

Airworthiness Criteria: Special Class Airworthiness Criteria for the Blackshape S.p.A., Model BK160-200 Very Light Airplane

AGENCY: Federal Aviation Administration (FAA), Department of Transportation (DOT).

ACTION: Issuance of final airworthiness criteria.

SUMMARY: The FAA announces the airworthiness criteria for the Blackshape S.p.A., Model BK160-200 Very Light Airplane (VLA). This document sets forth the airworthiness criteria that the FAA finds to be appropriate and applicable for the VLA design.

DATES: These airworthiness criteria are effective February 23, 2024.

FOR FURTHER INFORMATION CONTACT: Tara Fitzgerald, Certification Coordination Section, AIR-613, Certification Engagement Branch, Policy and Standards Division, Aircraft Certification Service, Federal Aviation Administration; telephone 781-238-7130; email tara.fitzgerald@faa.gov.

SUPPLEMENTARY INFORMATION:

Background

The European Union Aviation Safety Agency (EASA) submitted an application to the FAA, on behalf of Blackshape S.p.A., on February 10, 2020, for a type certificate for the Model BK160-200 VLA. Under 14 CFR 21.17(b), VLA are a special class of aircraft that utilize airworthiness criteria the FAA finds to be appropriate to the specific type design.

The BK160-200 is a single reciprocating engine airplane (Lycoming IO-320-D1B with constant speed Hartzell propeller), full carbon composite low wing design, with a retractable tri-cycle landing gear. It has conventional control systems (elevator, aileron, rudder, flaps, and longitudinal trim) and provides seats for two persons in a tandem seat configuration with a maximum takeoff gross weight (MTGW) of 850 kilograms (kg) (1,874 pounds). It also has advanced avionic displays, a stall speed of 50 knots, a rechargeable lithium-ion battery, and will perform night visual flight rules (VFR) operations.

Discussion of Comments

The FAA issued a notice of proposed airworthiness criteria for the Blackshape S.p.A., Model BK160-200 VLA, which published in the Federal Register on January 2, 2024 (89 FR 37). No comments were received, and the airworthiness criteria are adopted as proposed.

Applicability

These airworthiness criteria, established under the provisions of § 21.17(b), are applicable to the Blackshape S.p.A. Model BK160-200 VLA. Should Blackshape S.p.A. apply at a later date for a change to the type certificate to include another model, these airworthiness criteria would apply to that model as well, provided the FAA finds them appropriate in accordance with the requirements of subpart D to part 21.

Conclusion

This action affects only the airworthiness criteria for the Blackshape S.p.A. Model BK160-200 VLA. It is not a rule of general applicability.

Authority Citation

The authority citation for these airworthiness criteria is as follows:

Authority: 49 U.S.C. 106(g), 40113, 44701, 44702, 44704.

Airworthiness Criteria

Pursuant to the authority delegated to me by the Administrator, the following airworthiness criteria are issued as part of the type certification basis for the Blackshape S.p.A. Model BK160-200 VLA. The FAA finds these criteria to be appropriate for the aircraft and applicable to the specific type design and provide an equivalent level of safety to existing airworthiness standards.

EASA Certification Specifications (CS) for Very Light Aeroplanes CS-VLA, Amendment 1, dated March 5, 2009, with additional requirements identified in “Policy for Type Certification of Very Light Airplanes as a Special Class of Aircraft” (88 FR 70344, October 11, 2023) for Advanced Avionic Displays, Night-VFR Operations, Increased Maximum Certificated Takeoff Weight and Increased Stall Speed, and Rechargeable Lithium Ion Battery.

Issued in Washington, DC, on February 16, 2024.
James David Foltz,
Manager, Technical Policy Branch, Policy and Standards Division, Aircraft Certification Service.

[FR Doc. 2024-03728 Filed 2-22-24; 8:45 am]

BILLING CODE 4910-13-P